DEPARTMENT OF ENERGY

Federal Energy Regulatory Commission

[Project Nos. 405-153; 1025-082; 1881-074]

Constellation Energy Generation; Safe Harbor Water Power Corporation; BIF III Holtwood, LLC; Notice of Application Accepted for Filing and Soliciting Comments, Motions To Intervene, and Protests

Take notice that the following hydroelectric application has been filed with the Commission and is available for public inspection:

a. Application Type: Temporary variance of fish passage requirements.

b. Project Nos.: 405-153, 1205-082, & 1881-074.

c. Dates Filed: January 1, 2024; January 5, 2024; and January 5, 2024, respectively.

d. Applicants: Constellation Energy Generation, Safe Harbor Water Power Corporation, and BIF III Holtwood, LLC (collectively, licensees).

e. Names of Projects: Conowingo, Safe Harbor, and Holtwood Hydroelectric Projects.

f. Location: The projects are located on the Susquehanna River in Lancaster and York counties, Pennsylvania, and Cecil and Hartford counties, Maryland. The projects do not occupy federal land.

g. Filed Pursuant to: Federal Power Act, 16 U.S.C. 791(a)-825(r).

h. Applicant Contacts:

Andrea Danucalov (P-405), Constellation Energy, LLC, 2569 Shures Landing Road, Darlington, MD 21034-1503, (610) 301-1664, Andrea.Danucalov@constellation.com

Adam Slowik (P-1025 & P-1881), Brookfield Renewable, 482 Old Holtwood Road, Holtwood, PA 17532, (717) 284-6218, Adam.Slowik@brookfieldrenewable.com

i. FERC Contact: Alicia Jackson, (202) 502-8038, Alicia.Jackson@ferc.gov.

j. Cooperating agencies: With this notice, the Commission is inviting federal, state, local, and Tribal agencies with jurisdiction and/or special expertise with respect to environmental issues affected by the proposal, that wish to cooperate in the preparation of any environmental document, if applicable, to follow the instructions for filing such requests described in item m below. Cooperating agencies should note the Commission's policy that agencies that cooperate in the preparation of any environmental document cannot also intervene. See 94 FERC ¶ 61,076 (2001).

k. Deadline for filing comments, motions to intervene, and protests is March 21, 2023.

The Commission strongly encourages electronic filing. Please file comments, motions to intervene, and protests using the Commission's eFiling system at https://www.ferc.gov/docs-filing/efiling.asp. Commenters can submit brief comments up to 6,000 characters, without prior registration, using the eComment system at https://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. The first page of any filing should include docket numbers P-403-152, P-1024-082, and/or P-1881-074. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The licensees request Commission approval to suspend upstream fish passage activities during the spring 2024 fish passage season to prevent the spread of the invasive northern snakehead (Channa argus), blue catfish (Ictarlurus furcatus), and flathead catfish (Pylodictis olivaris). In lieu of volitional fish passage facilities, Constellation Energy Generation would provide trap and truck passage from Conowingo Dam. Any migratory fish would be collected below Conowingo Dam and sorted to remove invasive species before releasing native species upstream of the projects. As the fish passage facilities would not be used at Holtwood Dam, BIF III Holtwood, LLC is also proposing to postpone a radio telemetry study for one year. The study is intended to assess upstream fish passage efficiency.

m. Locations of the Application: This filing may be viewed on the Commission's website at https://www.ferc.gov using the “eLibrary” link. Enter the docket number excluding the last three digits in the docket number field to access the document. You may also register online at https://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 385.2010.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 20, 2024.
Debbie-Anne A. Reese,
Acting Secretary.

[FR Doc. 2024-03919 Filed 2-26-24; 8:45 am]

BILLING CODE 6717-01-P